DEPARTMENT OF COMMERCE

National Oceanic and Atmospheric Administration

United States Global Change Research Program (USGCRP) To Announce the Availability of a Draft Fourth National Climate Assessment Report for Public Comment

AGENCY: National Oceanic and Atmospheric Administration (NOAA), Department of Commerce (DOC).

ACTION: Notice of availability for public comment.

SUMMARY: The National Oceanic and Atmospheric Administration (NOAA) is publishing this notice on behalf of the United States Global Change Research Program (USGCRP) to announce the availability of a draft Fourth National Climate Assessment report for public comment. Following revision and further review (including by the National Academy of Sciences), a revised draft will undergo final Federal interagency clearance.

DATES: Comments on this draft scientific assessment must be received by January 31, 2018.

ADDRESSES: The draft Fourth National Climate Assessment can be accessed via the USGCRP Open Notices page (http://www.globalchange.gov/notices) or directly at the USGCRP Review and Comment System (https://review.globalchange.gov/). Registration details can be found on the review site home page, and review instructions are located on the dedicated report page. Comments may be submitted only via this online mechanism.

All comments received through this process will be considered by the relevant chapter authors without knowledge of the commenters' identities. When the final assessment is issued, the comments and the commenters' names, along with the authors' responses, will become part of the public record and made available on http://www.globalchange.gov. No information submitted by a commenter as part of the registration process (such as an email address) will be disclosed publicly.

Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT: David Dokken, (202) 419-3473, ddokken@usgcrp.gov, U.S. Global Change Research Program.

SUPPLEMENTARY INFORMATION: The U.S. Global Change Research Program (USGCRP) is mandated under the Global Change Research Act (GCRA) of 1990 to conduct a quadrennial National Climate Assessment (NCA) to evaluate scientific findings and uncertainties related to global change, analyze the effects of global change, and analyze the current and projected trends in global change, both human-induced and natural.

The Fourth NCA fulfills this mandate by synthesizing and assessing the science and impacts of climate change across 15 sectors and 10 regions of the United States, and considers options to reduce present and future risk, in a policy-relevant, but not policy-prescriptive manner. The Fourth NCA is a product of the USGCRP, and is overseen by an interagency Federal Steering Committee. Non-Federal Regional Chapter Leads were identified via an Open Call for nominations (https://www.federalregister.gov/d/2016-20982). The draft assessment was written by teams of Federal and non-Federal authors selected for their demonstrated subject matter expertise and publications relevant to the chapter topics outlined in the prospectus (https://www.federalregister.gov/d/2016-15807) and was informed by an array of technical inputs, many gathered through an Open Call (https://www.federalregister.gov/d/2016-20982).

The report adheres to the Information Quality Act requirements (http://www.cio.noaa.gov/services_programs/info_quality.html) for quality, transparency, and accessibility as appropriate for a Highly Influential Scientific Assessment (HISA).

Dan Barrie, Program Manager, Assessments Program, NOAA Climate Program Office.

Dated: October 10, 2017.
David Holst,
Chief Financial Officer/CAO, Office of Oceanic and Atmospheric Research, National Oceanic and Atmospheric Administration

[FR Doc. 2017-24221 Filed 11-6-17; 8:45 am]

BILLING CODE P